NUCLEAR REGULATORY COMMISSION

Advisory Committee on the Medical Uses of Isotopes: Meeting Notice

AGENCY: U.S. Nuclear Regulatory Commission.

ACTION: Notice of meeting.

SUMMARY: NRC will convene a meeting of the Advisory Committee on the Medical Uses of Isotopes (ACMUI) on May 24-25, 2010. A sample of agenda items to be discussed during the public session includes: (1) Updates on 10 Code of Federal Regulations (CFR) Parts 35 and 37 rulemakings; (2) information on the issue of patient release following administration of iodine 131; (3) updates on the medical isotope shortage; (4) updates on the prostate brachytherapy medical events that occurred at the Veteran's Affairs Medical Center in Philadelphia; (5) a subcommittee report on permanent implant brachytherapy; (6) a discussion on safety culture in medical practices; (7) an update on the status of the technical basis to support Part 35 rulemaking addressing the issues of grandfathering certified medical physicists; (8) information on the International Atomic Energy Agency's revision to Draft Safety Requirements DS379; (9) a subcommittee report on byproduct material events for fiscal year 2010; and (10) an issue regarding signatures for post-implant written directives for yttrium 90 microspheres procedures. A copy of the agenda will be available at http://www.nrc.gov/reading-rm/doc-collections/acmui/agenda or by e-mailing Ms. Ashley Cockerham at the contact information below.

Purpose: Discuss issues related to 10 CFR Part 35 Medical Use of Byproduct Material.

Date and Time for Closed Session: May 24, 2010, from 8 a.m. to 10 a.m. This session will be closed so that ACMUI members can enroll for new badges.

Date and Time for Open Sessions: May 24, 2010 from 10 a.m. to 4 p.m. and May 25, 2010, from 8 a.m. to 12:30 p.m.

Address for Public Meeting: U.S. Nuclear Regulatory Commission, Two White Flint North Building, Room T2-B3, 11545 Rockville Pike, Rockville, Maryland 20852.

Public Participation: Any member of the public who wishes to participate in the meeting in person or via phone should contact Ms. Cockerham using the information below.

Contact Information: Ashley M. Cockerham, e-mail: ashley.cockerham@nrc.gov, telephone: (240) 888-7129.

Conduct of the Meeting

Leon S. Malmud, M.D., will chair the meeting. Dr. Malmud will conduct the meeting in a manner that will facilitate the orderly conduct of business. The following procedures apply to public participation in the meeting:

1. Persons who wish to provide a written statement should submit an electronic copy to Ms. Cockerham at the contact information listed above. All submittals must be received by May 14, 2010, and must pertain to the topic on the agenda for the meeting.

2. Questions and comments from members of the public will be permitted during the meeting, at the discretion of the Chairman.

3. The draft transcript will be available on ACMUI's Web site (http://www.nrc.gov/reading-rm/doc-collections/acmui/tr/) on or about June 25, 2010. A meeting summary will be available on ACMUI's Web site (http://www.nrc.gov/reading-rm/doc-collections/acmui/meeting-summaries/) on or about July 8, 2010.

4. Persons who require special services, such as those for the hearing impaired, should notify Ms. Cockerham of their planned attendance.

This meeting will be held in accordance with the Atomic Energy Act of 1954, as amended (primarily Section 161a); the Federal Advisory Committee Act (5 U.S.C. App); and the Commission's regulations in Title 10, U.S. Code of Federal Regulations, Part 7.

Dated: April 15, 2010.
Andrew L. Bates,
Advisory Committee Management Officer.

[FR Doc. 2010-9158 Filed 4-20-10; 8:45 am]

BILLING CODE P